GENERAL SERVICES ADMINISTRATION

[Notice-GSA-OFPP-2014-01; Docket No. 2014-0002; Sequence 15]

Open Dialogue on Improving Federal Procurement

AGENCY: Office of Federal Procurement Policy (OFPP), General Services Administration (GSA).

ACTION: Notice.

SUMMARY: The Chief Acquisition Officers Council (CAOC), in coordination with the Federal Acquisition Regulatory Council (FAR Council), the Chief Information Officers Council (CIOC), the General Services Administration (GSA) and the Office of Management and Budget's (OMB) Office of Federal Procurement Policy (OFPP), is conducting an open dialogue to discuss improvements to the federal acquisition process. This dialogue is part an ongoing effort to improve the effectiveness and efficiency of the federal acquisition system by identifying impactful steps that can be taken by agencies to improve the way they do business with the best companies and enter into contracts that allow these companies to provide their best solutions for the taxpayer.

DATES: Effective: April 23, 2014.

ADDRESSES: Interested parties may participate in the dialogue through an online platform by reviewing the information and participation dates posted at www.cao.gov.

FOR FURTHER INFORMATION CONTACT: Mr. Jim Wade, OFPP, 202-395-2181 or jwade@omb.eop.gov; or Mr. Mathew Blum, OFPP, 202-395-4953, or mblum@omb.eop.gov.

SUPPLEMENTARY INFORMATION: The President's Management Agenda lays the foundation for creating a 21st century government that delivers better results to the American people. This foundation includes an efficient and effective acquisition system that maximizes the value of every taxpayer dollar.

The federal acquisition system is governed by a myriad of rules, both administrative and statutory, that are designed to help agencies maximize results from their contracts, make sure that contractors are qualified to do business with the federal government, and ensure consistency with key economic and social policies. Efforts to streamline, modernize, and improve requirements may allow contractors and agencies to execute in a more efficient and effective manner, while still supporting the execution of these policies.

The CAOC, in collaboration with the FAR Council, the CIOC, GSA and OFPP, seeks to conduct an open conversation to identify specific rules and requirements, tools, procedures, and practices that impact the efficiency and effectiveness of federal procurement and ways to improve them. The CAOC is interested in hearing about proposed improvements that can be accomplished through executive (regulatory, administrative, or management) action, as well as potential legislative proposals where requirements are based in statute. Dialogue will be encouraged in each of the following areas:

• Reporting and compliance requirements—e.g., opportunities where collection processes and systems can be reengineered or automated, duplicative reporting can be eliminated, the frequency of reporting can be reduced, and outdated compliance thresholds can be changed.

• Procurement practices—e.g., opportunities where acquisition strategies can be modernized (to support more efficient and effective acquisition of IT, in particular), where best commercial practices can be utilized, as well as efforts to promote greater consideration of innovative solutions and contracting practices.

• Participation by small and minority businesses, new entrants, and non-traditional government contractors—e.g., opportunities for improving existing technical or strategic assistance programs, making buying platforms for finding business opportunities and bidding more user friendly, and lowering the cost of doing business.

To facilitate feedback, an online platform is being launched so that interested parties may submit ideas, respond to questions posed by moderators, and comment on other ideas—including those that they think are most promising and impactful. Information on the platform and the dates for participating in the dialogue are posted at www.cao.gov.

Dated: April 17, 2014.
William Clark,
Acting Senior Procurement Executive, Office of Acquisition Policy, Office of Government-wide Policy.

[FR Doc. 2014-09129 Filed 4-22-14; 8:45 am]

BILLING CODE 6820-61-P